DEPARTMENT OF ENERGY

Federal Energy Regulatory Commission

[Project No. 9074-051]

Warrensburg Hydro Power Limited Partnership; Notice of Application for Amendment of License and Soliciting Comments, Motions To Intervene, and Protests

June 21, 2007.

Take notice that the following hydroelectric application has been filed with the Commission and is available for public inspection:

a. Type of Application: Request for temporary variance of the reservoir elevation requirement.

b. Project No.: 9074-051.

c. Date Filed: June 18, 2007.

d. Applicant: Warrensburg Hydro Power Limited Partnership.

e. Name of Project: Warrensburg Hydroelectric Project.

f. Location: Schroon River, in Warren County, New York.

g. Filed Pursuant to: Federal Power Act, 16 U.S.C. 791a-825r.

h. Applicant Contact: Daniel McCarty, Boralex Hydro Operations, Inc., 39 Hudson Falls Road, South Glens Falls, New York 12803, (518) 747-0930.

i. FERC Contact: Thomas LoVullo at (202) 502-8900, or thomas.lovullo@ferc.gov.

j. Deadline for filing comments, motions to intervene and protests: July 16, 2007.

All documents (original and eight copies) should be filed with: Secretary, Federal Energy Regulatory Commission, 888 First Street, NE., Washington, DC 20426. Please include the project number (P-9074) on any comments or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Warrensburg Hydro Power Limited Partnership (licensee) is requesting a temporary variance of the reservoir elevation requirement stipulated in the Warrensburg Hydroelectric Project license to complete maintenance work. The south abutment or berm wall area of the project exhibits leakage that began shortly after the completion of the project in 1988. Based on continual leakage monitoring programs, numerous leakage mitigation measures have taken place over the years. The mitigation measures appear to have managed or controlled the situation; however, undesirable leakage continues. Based on the findings of two independent engineering assessments, the integrity of the south berm wall is not believed to be compromised in its current condition. Nevertheless, based on recommendations, the licensee would like to proceed in implementing a plan (begun in 2005) to correct the leakage situation. The work activities would require the reservoir to be drawn down as similarly done in 2005 and 2006. The proposed schedule indicates the draw down to commence on July 31 and the construction work to occur over a four to six week period.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified vial e-mail or new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(I)(iii) and the instructions on the Commission's Web site at http://www.ferc.gov under the “e-Filing” link.

Kimberly D. Bose,
Secretary.

[FR Doc. E7-12483 Filed 6-27-07; 8:45 am]

BILLING CODE 6717-01-P